DEPARTMENT OF COMMERCE

National Oceanic and Atmospheric Administration

[RTID 0648-XE853]

Council Coordination Committee; Public Meeting

AGENCY: National Marine Fisheries Service (NMFS), National Oceanic and Atmospheric Administration (NOAA), Commerce.

ACTION: Notice of public meeting.

SUMMARY: The New England Fishery Management Council (NEFMC) will host a hybrid meeting of the Council Coordination Committee (CCC) consisting of eight Regional Fishery Management Council (RFMC) chairs, vice chairs, and executive directors and its subcommittees from May 13, 2025 to May 15, 2025. The intent of this meeting is to discuss issues of relevance to the Councils and NMFS, including issues related to the implementation of the Magnuson-Stevens Fishery Conservation and Management Reauthorization Act (MSA), other topics of concern to the RFMCs, and decisions and follow-up activities.

DATES: This meeting will be held from Tuesday, May 13, 2025 to Thursday, May 15, 2025. Registration for the meeting will be from 3 p.m. to 7 p.m. EDT on Monday, May 12, 2025. The meeting will begin at 1 p.m. EDT on Tuesday, May 13, 2025, and recess at 5 p.m. or when business is complete. The meeting will reconvene at 9:30 a.m. EDT on Wednesday, May 16, 2025 until 5 p.m. or when business is complete. The meeting will reconvene at 9:30 a.m. EDT on Thursday, May 15, 2025 and adjourn whenever business is complete.

ADDRESSES: This meeting will be held at the Whaling Museum, 18 Johnny Cake Hill, New Bedford, MA 02740; telephone: (508) 997-0046.

Webinar registration URL information: https://nefmc-org.zoom.us/webinar/register/WN_FqaIDqI6S5iI5aHzQZLHdw.

Council address: New England Fishery Management Council, 50 Water Street, Mill 2, Newburyport, MA 01950; telephone (978) 465-0492; www.nefmc.org.

FOR FURTHER INFORMATION CONTACT: Cate O'Keefe, Executive Director, New England Fishery Management Council; telephone: (978) 465-0492, ext. 113.; email: cokeefe@nefmc.org.

SUPPLEMENTARY INFORMATION: The Magnuson-Stevens Fishery Conservation and Management Act (MSA) and 2007 Reauthorization Act (MSRA) established the CCC by amending section 302 (16 U.S.C. 1852) of the MSA. The Committee consists of the chairs, vice chairs, and executive directors of each of the eight Regional Fishery Management Councils authorized by the MSA, or their proxies, other Council members or staff. All sessions are open to the public and time will be set aside for public comments at the end of each day and after specific sessions at the discretion of the meeting Chair. The meeting Chair will announce public comment times and instructions to provide comments at the start of each meeting day. There will be opportunities for public comments to be provided in-person and remotely via webinar. Updates to this meeting, briefing materials, public comment instructions, and additional information will be posted when available at https://www.fisherycouncils.org/ccc-meetings/may-2025.

Agenda

Monday, May 12, 2025; 3 p.m.-7 p.m.

• Meeting Registration: Harbor Hotel Lobby.

Tuesday, May 13, 2025; 1 p.m.-5 p.m.

• Welcome and Introductions;

• Council round robin of current issues;

• NOAA Fisheries Update and FY 25/26 Priorities;

• Executive Orders Update; and

• Public Comment.

Adjourn for the day.

Wednesday, May 14, 2025; 9:30 a.m.-5 p.m.

• NOAA Fisheries Science Updates;

• Budget;

• NEPA Update;

• Discussion on Priorities and Future Planning;

• Legislative Outlook;

• Draft Policy and Guidance: National Marine Sanctuaries Act Section 304(a)(5); International Fisheries Issues; and

• Public Comment.

Adjourn for the day.

Thursday, May 15, 2025; 9:30 a.m.-12:30 p.m.

• Scientific Coordination Subcommittee (SCS);

• CMOD Workshop Recap;

• CCC Workgroups/Subcommittees;

• 2026 CCC Meetings; and

• Other Business and Wrap-Up.

The timing and order in which agenda items are addressed may change as required to effectively address the issues. The CCC will meet as late as necessary to complete scheduled business.

Although non-emergency issues not contained in the meeting agenda may be discussed, those issues may not be the subject of formal action during these meetings. Action will be restricted to those issues specifically listed in this document and any issues arising after publication of this document that require emergency action under section 305 (c) of the Magnuson-Stevens Fishery Conservation and Management Act, provided the public has been notified of the intent to take final action to address the emergency.

The public also should be aware that the meeting will be recorded and a transcript prepared. Consistent with 16 U.S.C. 1852, a copy of the recording is available upon request.

Special Accommodations

The meeting is physically accessible to people with disabilities. Requests for sign language interpretation or other auxiliary aids should be directed to Cate O'Keefe (see ADDRESSES) at least 5 days prior to the meeting date.

Authority: 16 U.S.C. 1801 et seq.

Dated: April 14, 2025.
Rey Israel Marquez,
Acting Deputy Director, Office of Sustainable Fisheries, National Marine Fisheries Service.

[FR Doc. 2025-06626 Filed 4-16-25; 8:45 am]

BILLING CODE 3510-22-P